DEPARTMENT OF DEFENSE

Office of the Secretary

Office of the Actuary; Notice of a Meeting

AGENCY: Department of Defense.

ACTION: Notice of meeting; DoD Medicare-Eligible Retiree Health Care Board of Actuaries.

SUMMARY: A meeting of the Board has been scheduled to execute the provisions of Chapter 56, Title 10, United States Code (10 U.S.C. 1114 et. seq.). The Board shall review DoD actuarial methods and assumptions to be used in the valuation of benefits under DoD retiree health care programs for Medicare-eligible beneficiaries. Persons desiring to: (1) Attend the DoD Medicare-Eligible Retiree Health Care Board of Actuaries meeting, or (2) make an oral presentation or submit a written statement for consideration at the meeting, must notify Bill Klunk at 703-696-7404 by May 10, 2005. Notice of this meeting is required under the Federal Advisory Committee Act.

DATES: June 3, 2005, 1:30 p.m.-5 p.m.

ADDRESSES: 4040 N. Fairfax Drive, Suite 270, Arlington, VA 22203.

FOR FURTHER INFORMATION CONTACT: Bill Klunk, DoD Office of the Actuary, 4040 N. Fairfax Drive, Suite 308, Arlington, VA 22203, (703) 696-7404.

Dated: March 10, 2005.
Jeannette Owings-Ballard,
OSD Federal Register Liaison Officer, Department of Defense.

[FR Doc. 05-5220 Filed 3-15-05; 8:45 am]

BILLING CODE 5001-06-M